DEPARTMENT OF THE INTERIOR

Bureau of Land Management

[OR-958-1430-01; HAG-04-0235; OR-20301 et al]

Public Land Order No. 7616; Partial Revocation of 7 Secretarial Orders; Oregon

AGENCY: Bureau of Land Management, Interior.

ACTION: Public Land Order.

SUMMARY: This order revokes 7 Secretarial Orders insofar as they affect 17,789.94 acres of lands withdrawn for the Bureau of Reclamation's Owyhee Reclamation Project. The lands are no longer needed for the purpose for which they were withdrawn. Of the lands included in the revocation, 7,975.30 acres will remain closed to surface entry and mining until the Bureau of Land Management completes a planning review. The remaining 9,814.64 acres have been conveyed from Federal ownership.

DATES: November 5, 2004.

FOR FURTHER INFORMATION CONTACT: Michael L. Barnes, BLM Oregon/ Washington State Office, P.O. Box 2965, Portland, Oregon 97208, (503) 808-6155.

SUPPLEMENTARY INFORMATION: The lands described in Paragraph (a) will remain closed to surface entry and mining until a planning analysis and review is completed to determine if any of the lands need special designation or protection. If such lands are deemed appropriate for surface entry, including entry under the mining laws, a subsequent Notice of Opening will be published in the Federal Register to address such a finding and potentially open such lands to entry. This is a record clearing action only for the lands described in Paragraph (b) which have been conveyed from Federal ownership.

Order

By virtue of the authority vested in the Secretary of Interior by section 204 of the Federal Land Policy and Management Act of 1976, 43 U.S.C. 1714 (2000), it is ordered as follows:

The Secretarial Orders dated September 2, 1914, November 4, 1914, March 17, 1916, February 5, 1923, March 28, 1925, February 18, 1937, and April 30, 1945, which withdrew public lands for the Bureau of Reclamation's Owyhee Reclamation Project, are hereby revoked insofar as they affect the following described lands:

Willamette Meridian

(a) Federal Lands

T. 16 S., R. 47 E.,

Sec. 18, SW¼NE¼ (except for a strip of land 150 feet on each side of the centerline of the canal).

T. 17 S., R. 46 E.,

Sec. 26, NW¼SE¼ (except for a strip of land 150 feet each side of the centerline of the canal).

T. 18 S., R. 45 E.,

Sec. 10, S½NW¼ (except for a strip of land 150 feet each side of the centerline of the canal).

T. 18 S., R. 46 E.,

Sec. 9, E½NW¼ and NE¼SE¼.

T. 19 S., R. 46 E.,

Sec. 2, SW¼NE¼ and W½SE¼;

Sec. 15, SW¼NE¼ (except for a strip of land 150 feet each side of the centerline of the canal);

Sec. 32, NE¼SE¼ and N½NW¼SE¼ (except for a strip of land 150 feet each side of the centerline of the canal);

Sec. 33, NW¼, that portion lying north of the irrigation canal.

T. 20 S., R. 45 E.,

Sec. 10, E½NW¼SE¼;

Sec. 12, S½NW¼, NW¼SE¼, and SE¼SE¼ (except for a strip of land 150 feet each side of the centerline of the canal).

Sec. 35, NE¼NE¼SE¼NE¼.

T. 20 S., R. 46 E.,

Sec. 5, lots 1 and 2, SW¼NE¼, S½SW¼ north of canal, and NE¼SE¼ west of canal;

Sec. 6, SE¼SW¼ and SW¼SE¼;

Sec. 20, S½SW¼NE¼.

T. 21 S., R. 45 E.,

Sec. 13, W½SW¼SE¼;

Sec. 14, NW¼NW¼, NE¼SW¼, N½SE¼ and SW¼SE¼ (except for a strip of land 150 feet each side of the centerline of the canal);

Sec. 23, SE¼NE¼, and E½SE¼ (except for a strip of land 150 feet each side of the centerline of the canal);

Sec. 24, W½NW¼NE¼, SW¼NE¼, W½SE¼NE¼, N½NW¼, SW¼NW¼, and S½SE¼NW¼ (except for a strip of land 150 feet each side of the centerline of the canal);

Sec. 26, N½NE¼, W½SW¼NE¼, SE¼NE¼, NE¼NE¼SE¼, S½NE¼SE¼, W½NW¼SE¼, SE¼NW¼SE¼, and S½SE¼ (except for a strip of land 150 feet each side of the centerline);

Sec. 34, SE¼;

Sec. 35, E½ and SW¼, (except for a strip of land 150 feet each side of the centerline of the canal).

T. 21 S., R. 46 E.,

Sec. 7, S½S½NE¼;

Sec. 8, SW¼NW¼ and NW¼SW¼;

Sec. 16, S½S½;

Sec. 17, SW¼SW¼;

Sec. 18, E½SE¼ (except for a strip of land 150 feet each side of the centerline of the canal);

Sec. 19, lot 3 and E½NE¼ (except for a strip of land 150 feet each side of the centerline of the canal);

Sec. 20, W½NW¼ (except for a strip of land 150 feet each side of the centerline of the canal);

Sec. 22, lot 2 and S½SW¼;

Sec. 27, NE¼NW¼ and SW¼NW¼;

Sec. 28, SE¼SE¼.

T. 22 S., R. 45 E.,

Sec. 2, lots 1, 2, and 3, S½N½, N½N½SW¼, SE¼NE¼SW¼, SW¼NW¼SW¼, W½SW¼SW¼, SE¼SW¼SW¼, NE¼SE¼SW¼, S½SE¼SW¼, and SE¼ (except for a strip of land 150 feet each side of the centerlines of the canal and Tunnels No. 1 and 5);

Sec. 3, lots 1, 2, 3, 6, 7, 9, 10 and 15, S½NE¼, and SE¼ (except for a strip of land 150 feet each side of the centerline of the canal and Tunnel No.1);

Sec. 4, lot 1;

Sec. 9, SE¼;

Sec. 10, lots 1, 2, NE¼, S½NW¼, and S½ (except for a strip of land 150 feet each side of the centerline of Tunnel No. 1);

Sec. 17, W½NW¼;

Sec. 18, lots 1 and 6.

T. 22 S., R. 46 E.,

Sec. 9, NE¼SW¼ and SW¼SW¼ (except for a strip of land 150 feet each side of the centerline of Tunnel No. 5);

Sec. 16;

Sec. 21, NE¼NE¼ (except for a strip of land 150 feet each side of the centerline of the canal);

Sec. 22, W½SW¼NW¼, NE¼SW¼, W½NW¼SW¼, SE¼NW¼SW¼, SW¼SW¼, N½SE¼SW¼, and SE¼SE¼SW¼ (except for a strip of land 150 feet each side of the centerline of the canal);

Sec. 26, N½SW¼ (except for a strip of land 150 feet each side of the centerline of the canal);

Sec. 27, SW¼NE¼, NE¼SE¼, and S½NW¼SE¼ (except for a strip of land 150 feet each side of the centerline of the canal).

T. 23 S., R. 46 E.,

Sec. 3, lot 1, W½W½SW¼NE¼, SE¼NW¼SW¼NE¼, NE¼SW¼SW¼NE¼, SE¼NW¼, E½SW¼, W½W½W½SE¼, SW¼NE¼NW¼SE¼, SE¼NW¼NW¼SE¼, E½SW¼NW¼SE¼, W½SE¼NW¼SE¼, and E½NW¼SW¼SE¼;

Sec. 10, W½NW¼NW¼NE¼, SW¼NW¼NE¼, S½SE¼NW¼NE¼, E½NW¼ and S½SE¼NE¼ (except for a strip of land 150 feet each side of the centerline of the canal);

Sec. 11, E½SW¼ (except for a strip of land 150 feet each side of the centerline of the canal);

Sec. 14, W½NW¼NE¼, SE¼NW¼NE¼, and NE¼NW¼ (except for a strip of land 150 feet each side of the centerline of the canal).

T. 27 S., R. 43 E.,

Sec. 5, lots 12, 14, 21, 23, and 26, and E½SW¼;

Sec. 6, lots 4, 12, 14, 15, 17, 24, 25, 27, 29, 38, 41, 49, 50, and 51;

Sec. 7, lots 1, 2, 9 thru 23, inclusive, and E½E½;

Sec. 18, lots 1 thru 11, and 14 thru 18, inclusive, and E½NE¼;

Sec. 19, lot 5.

The areas described aggregate 7,975.30 acres in Malheur County.

(b) Non-Federal Lands

T. 18 S., R. 45 E.,

Sec. 12, NW¼NE¼ and NE¼NW¼.

T. 18 S., R. 46 E.,

Sec. 4, SW¼SW¼;

Sec. 6, SE¼SE¼;

Sec. 30, W½W½SE¼.

T. 19 S., R. 46 E.,

Sec. 4, lots 1, 2 and 3, SW¼NE¼, SE¼NW¼, and NW¼SW¼;

Sec. 5, lot 2, SW¼NE¼ and NE¼SE¼;

Sec. 28, W½SW¼NW¼.

T. 20 S., R. 45 E.,

Sec. 9.

T. 21 S., R. 45 E.,

Sec. 1, SW¼NW¼ and S½;

Sec. 2, lots 2 and 3, S½N½, and SE¼;

Sec. 11, N½NE¼, SE¼NW¼, SW¼, W½SE¼, and SE¼SE¼;

Sec. 12, NW¼NW¼;

Sec. 26, E½SW¼NW¼, W½SE¼NW¼, and E½NW¼SW¼;

Sec. 35, SW¼NW¼.

T. 21 S., R. 46 E.,

Sec. 33, NE¼NE¼ and E½NW¼NE¼.

T. 22 S., R. 45 E.,

Sec. 7, lot 10;

Sec. 9, lots 4 and 5;

Sec. 18, lot 2 and E½NW¼NE¼.

T. 22 S., R. 46 E.,

Sec. 9, N½SE¼;

Sec. 10, NW¼SW¼;

Sec. 12, N½NE¼;

Sec. 14, NW¼NW¼;

Sec. 15, N½NE¼, NE¼NW¼, and NW¼SE¼;

Sec. 22, NE¼NE¼, S½NE¼, SE¼NW¼, and SE¼;

Sec. 23, SE¼NE¼, W½NW¼, and SE¼;

Sec. 24, W½W½ and SE¼;

Sec. 25, NE¼, N½NW¼, and SW¼;

Sec. 26, SE¼SW¼;

Sec. 27, N½NE¼, SE¼NE¼, and NW¼.

Sec. 35, S½NE¼, E½NW¼, and N½SE¼.

T. 22 S., R. 47 E.,

Sec. 7, lots 1 to 4, inclusive, and W½W½;

Sec. 30, lots 3 and 4, and W½SW¼;

Sec. 31, lot 1 and NW¼NW¼.

T. 23 S., R. 46 E.,

Sec. 1, lot 4, SW¼NW¼, and SW¼SE¼NW¼;

Sec. 2, lots 1 to 4, inclusive, S½N½, and SW¼;

Sec. 3, NE¼SW¼NE¼, NE¼NW¼SW¼NE¼, SE¼SW¼SW¼NE¼, SE¼SW¼NE¼, SE¼NE¼, NE¼SE¼, N½NE¼NW¼SE¼, SE¼NE¼NW¼SE¼, NE¼NW¼NW¼SE¼, E½SE¼NW¼SE¼, NE¼SW¼SE¼, E½SW¼SW¼SE¼, SE¼SW¼SE¼, and SE¼SE¼;

Sec. 10, NE¼NE¼, NE¼NW¼NE¼, E½NW¼NW¼NE¼, and N½SE¼NW¼NE¼;

Sec. 11, S½NE¼, NW¼, and SE¼;

Sec. 12, SW¼NE¼, S½NW¼, SW¼, and W½SE¼;

Sec. 13, W½E½ and E½W½.

The areas described aggregate 9,814.64 acres in Malheur County.

Dated: September 14, 2004.
Rebecca W. Watson,
Assistant Secretary—Land and Minerals Management.

[FR Doc. 04-22391 Filed 10-5-04; 8:45 am]

BILLING CODE 4310-33-P